DEPARTMENT OF ENERGY

Secretary of Energy Advisory Board; Meeting: Correction

AGENCY: Department of Energy.

ACTION: Notice of Open Meeting: Correction.

SUMMARY: The Department of Energy (DOE) published in the Federal Register on July 18, 2014, a notice of an open meeting for the Secretary of Energy Advisory Board (SEAB). The notice is being corrected to change the Agenda topics and point of contact for the meeting.

Correction: In the Federal Register of July 18, 2014, in FR DOC. 2014—16910, on pages 42001, please make the following corrections:

In the FOR FURTHER INFORMATION CONTACT heading, first column, first paragraph, first line, please remove, “Karen Gibson, Designated Federal Officer” “telephone: (202) 586-3787” and in its place add “Corey Williams-Allen, Deputy Designated Federal Officer” “telephone: (202) 586-1916”.

In the Tentative Agenda heading, first column, first paragraph, fourth line, please remove, “SEAB Next Generation High Performance Computing Task Force” and in its place add, “SEAB Task Force on Nuclear Nonproliferation”.

In the Public Participation heading, second column, first paragraph, second line, please remove, “Karen Gibson” and in its place add, “Corey Williams-Allen”. Also in the fifth line, remove “five days”, and in its place add” one day”.

In the Minutes heading, second column, first paragraph, second line, please remove “Ms. Gibson. She”, and in its place add, “Mr. Williams-Allen. He”.

Issued in Washington, DC, on: July 28, 2014.
LaTanya R. Butler,
Deputy Committee Management Officer.

[FR Doc. 2014-18034 Filed 7-30-14; 8:45 am]

BILLING CODE 6450-01-P